DEPARTMENT OF THE INTERIOR

Bureau of Land Management

[WY-100-1430-ES; WYW-163849]

Notice of Realty Action; Recreation and Public Purposes Act Classification; Wyoming

AGENCY: Bureau of Land Management, Interior.

ACTION: Notice; correction.

SUMMARY: The Bureau of Land Management published a notice in the Federal Register of August 23, 2006, concerning the classification for lease or conveyance of three parcels of public land to Sublette County. The notice contained an incorrect legal description.

FOR FURTHER INFORMATION CONTACT: Bill Wadsworth, Realty Specialist, at the address above or at 307-367-5341.

CORRECTION: In the Federal Register of August 23, 2006, in FR Doc. E6-13927, on page 49472, in the second column, first paragraph under SUPPLEMENTARY INFORMATION, correct the legal description to read:

WYW-163849—Pinedale, WY—Golf Course to be classified for lease/conveyance:

Sixth Principal Meridian, Sublette County, Wyoming

T. 33 N., R. 109 W.,

Sec. 5, SW¼, SW¼SE¼;

Sec. 6, E½SE¼.

The land described contains 280 acres.

Dated: October 3, 2006.
Dennis R. Stenger,
Field Manager.

[FR Doc. E6-16936 Filed 10-12-06; 8:45 am]

BILLING CODE 4310-22-P